DEPARTMENT OF HOMELAND SECURITY

National Communications System

[Docket No. NCS-2009-0004]

President's National Security Telecommunications Advisory Committee

AGENCY: National Communications System, DHS.

ACTION: Notice of a partially closed advisory committee meeting.

SUMMARY: The President's National Security Telecommunications Advisory Committee (NSTAC) will be meeting by teleconference; the meeting will be partially closed to the public.

DATES: November 19, 2009, from 12 p.m. until 1 p.m.

ADDRESSES: The meeting will take place by teleconference. For access to the conference bridge and meeting materials, contact Ms. Sue Daage at (703) 235-5526 or by e-mail at sue.daage@dhs.gov by 5 p.m. November 12, 2009. If you desire to submit comments regarding the November 19, 2009 meeting, they must be submitted by November 30, 2009. Comments must be identified by NCS-2009-0004 and may be submitted by one of the following methods:

Federal eRulemaking Portal: http://www.regulations.gov. Follow the instructions for submitting comments.

E-mail: NSTAC1@dhs.gov. Include docket number in the subject line of the message.

Mail: Office of the Manager, National Communications System (Government Industry Planning and Management Branch), Department of Homeland Security, 245 Murray Lane SW., Washington, DC 20598-0615; Fax: 1-866-466-5370.

Instructions: All submissions received must include the words “Department of Homeland Security” and NCS-2009-0004, the docket number for this action. Comments received will be posted without alteration at http://www.regulations.gov, including any personal information provided.

Docket: For access to the docket, background documents or comments received by the NSTAC, go to http://www.regulations.gov.

FOR FURTHER INFORMATION CONTACT: Ms. Sue Daage, Government Industry Planning and Management Branch at (703) 235-5526, e-mail: sue.daage@dhs.gov or write the Deputy Manager, National Communications System, Department of Homeland Security, 245 Murray Lane SW., Washington, DC 20598-0615.

SUPPLEMENTARY INFORMATION: NSTAC advises the President on issues and problems related to implementing national security and emergency preparedness telecommunications policy. Notice of this meeting is given under the Federal Advisory Committee Act (FACA), Public Law 92-463 (1972), as amended appearing in 5 U.S.C. App. 2. At the upcoming meeting, between 12 p.m. and 12:35 p.m., the NSTAC Principals will receive government stakeholder comments, hold a discussion and vote on the Satellite Task Force Report, and discuss the January-May portion of the NSTAC Work Plan. This portion of the meeting will be open to the public. Between 12:35 p.m. and 1 p.m., the Principals will receive an update on the work of the Cybersecurity Collaboration Task Force.

Persons with disabilities who require special assistance should indicate this when arranging access to the teleconference and are encouraged to identify anticipated special needs as early as possible.

Basis For Closure: During the portion of the meeting to be held from 12:35 p.m. to 1 p.m., the NSTAC will discuss cybersecurity collaboration between the private sector and the Federal Government. Such discussions will likely include identification of network vulnerabilities and strategies for mitigating those vulnerabilities. NSTAC members will likely inform the discussion by contributing confidential and voluntarily-provided commercial information relating to private sector cybersecurity vulnerabilities that they would not customarily release to the public. Disclosure of this information can be reasonably expected to frustrate DHS's ongoing cyber security programs and initiatives, especially the National Cyber Incident Response Plan, and could be used to exploit vulnerabilities in the Federal Government's cyber network. Accordingly, the relevant portion of this meeting will be closed to the public pursuant to 5 U.S.C. 552b(c)(2), (4) and (9)(B).

Dated Signed: October 1, 2009.
James Madon,
Director, National Communications System.

[FR Doc. E9-25345 Filed 10-20-09; 8:45 am]

BILLING CODE 9110-09-P